DEPARTMENT OF TRANSPORTATION

Federal Aviation Administration

14 CFR Part 39

[Docket No. FAA-2023-2400; Project Identifier MCAI-2023-00782-T; Amendment 39-22715; AD 2024-06-10]

RIN 2120-AA64

Airworthiness Directives; BAE Systems (Operations) Limited Airplanes

AGENCY: Federal Aviation Administration (FAA), DOT.

ACTION: Final rule.

SUMMARY: The FAA is superseding Airworthiness Directive (AD) 2022-25-18, which applied to certain BAE Systems (Operations) Limited Model BAe 146 and Model Avro 146-RJ series airplanes. AD 2022-25-18 required repetitive inspections for cracking of the main landing gear (MLG) side stay outer link and replacement if necessary. This AD was prompted by additional investigations of the causes of the cracking being conducted. This AD requires a reduction of the repetitive visual inspection interval, provides optional repetitive special detailed inspections, and requires accomplishing a one-off dimensional tolerance check and performing a repetitive lubrication of the MLG side stay outer link pivot, as specified in United Kingdom (U.K.) Civil Aviation Authority (CAA) (U.K. CAA) AD, which is incorporated by reference. The FAA is issuing this AD to address the unsafe condition on these products.

DATES: This AD is effective May 22, 2024.

The Director of the Federal Register approved the incorporation by reference of certain publications listed in this AD as of May 22, 2024.

ADDRESSES:

AD Docket: You may examine the AD docket at regulations.gov under Docket No. FAA-2023-2400; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For U.K. CAA material incorporated by reference in this AD, contact Civil Aviation Authority, Aviation House, Beehive Ring Road, Crawley, West Sussex RH6 0YR, United Kingdom; telephone +44(0) 330 022 4401; email continued.airworthiness@caa.co.uk; website caa.co.uk.

• For BAE Systems (Operations) Limited service information identified in this AD, contact BAE Systems (Operations) Limited, Customer Information Department, Prestwick International Airport, Ayrshire, KA9 2RW, Scotland, United Kingdom; telephone +44 1292 675207; fax +44 1292 675704; email RApublications@baesystems.com; website regional-services.com.

• You may view this material at the FAA, Airworthiness Products Section, Operational Safety Branch, 2200 South 216th Street, Des Moines, WA. For information on the availability of this material at the FAA, call 206-231-3195.

FOR FURTHER INFORMATION CONTACT: Todd Thompson, Aviation Safety Engineer, FAA, 1600 Stewart Avenue, Suite 410, Westbury, NY 11590; telephone 206-231-3228; email todd.thompson@faa.gov.

SUPPLEMENTARY INFORMATION:

Background

The FAA issued a notice of proposed rulemaking (NPRM) to amend 14 CFR part 39 to supersede AD 2022-25-18, Amendment 39-22274 (87 FR 75915, December 12, 2022; corrected December 27, 2022 (87 FR 79236)) (AD 2022-25-18). AD 2022-25-18 applied to certain BAE Systems (Operations) Limited Model BAe 146 and Model Avro 146-RJ series airplanes. AD 2022-25-18 required repetitive inspections for cracking of the MLG side stay outer link and replacement if necessary. The FAA issued AD 2022-25-18 to address cracking on the shoulders of an MLG side stay outer link. The unsafe condition, if not addressed, could lead to failure of the MLG side stay outer link and MLG collapse, which could result in a runway departure and the engine or wing contacting the ground. The engine or wing contacting the ground could result in damage to the airplane, an increased risk of fire, the airplane flipping, and injury to occupants.

The NPRM published in the Federal Register on December 27, 2023 (88 FR 89339). The NPRM was prompted by AD G-2023-0004R1, dated November 16, 2023 (U.K. CAA AD G-2023-004R1) (also referred to as the MCAI), issued by U.K. CAA, which is the aviation authority for the United Kingdom. The MCAI states that further investigation resulted in a reduced repetitive detailed visual inspection interval and an option to do repetitive special detailed inspections; a new requirement for a one-time dimensional tolerance check; and a requirement to perform a repetitive lubrication of the MLG side stay outer link pivot.

In the NPRM, the FAA proposed to require a reduction of the repetitive visual inspection interval, provide optional repetitive special detailed inspections, and require accomplishing a one-off dimensional tolerance check and performing a repetitive lubrication of the MLG side stay outer link pivot, as specified in U.K. CAA AD G-2023-0004R1. The FAA is issuing this AD to address the unsafe condition on these products.

You may examine the MCAI in the AD docket at regulations.gov under Docket No. FAA-2023-2400.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

U.K. CAA AD G-2023-004R1 specifies procedures for doing repetitive detailed visual inspections or special detailed inspections for cracking of the MLG side stay outer link and replacement if necessary; a one-time dimensional tolerance check of the MLG side stay outer link and corrective actions including replacement if necessary: and repetitive lubrication of the MLG side stay outer link pivot.

The FAA reviewed BAE Systems (Operations) Limited Alert Service Bulletin ASB.32-A189, Revision 2, dated August 3, 2023. This service information describes procedures for doing, among other actions, detailed visual inspections and special detailed inspections (fluorescent dye penetrant) for cracking of the MLG side stay outer link, replacement of the side stay outer link; a one-time dimensional tolerance check of the MLG side stay outer link; removing the side stay outer link and contacting the manufacturer; re-applying protective treatment/paint; and lubrication of the MLG side stay outer link pivot.

This material is reasonably available because the interested parties have access to it through their normal course of business or by the means identified in the ADDRESSES section.

Interim Action

The FAA considers that this AD is an interim action. If final action is later identified, the FAA might consider further rulemaking then.

Costs of Compliance

The FAA estimates that this AD affects 20 airplanes of U.S. registry. The FAA estimates the following costs to comply with this AD:

Estimated Costs for Required Actions
Labor cost | Parts cost | Cost per product | Cost on U.S operators
2 work-hours × $85 per hour = $170 | $0 | $170 | $3,400

Estimated Costs for On-Condition Actions
Labor cost | Parts cost | Cost per product
Up to 5 work-hours × $85 per hour = Up to $425 | Up to $3,000 | Up to $3,425.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing airworthiness directive 2022-25-18, Amendment 39-22274 (87 FR 75915, December 12, 2022; corrected December 27, 2022 (87 FR 79236)); and

b. Adding the following new airworthiness directive:

2024-06-10 BAE Systems (Operations) Limited: Amendment 39-22715; Docket No. FAA-2023-2400; Project Identifier MCAI-2023-00782-T.

(a) Effective Date

This airworthiness directive (AD) is effective May 22, 2024.

(b) Affected ADs

This AD replaces AD 2022-25-18, Amendment 39-22274 (87 FR 75915, December 12, 2022; corrected December 27, 2022 (87 FR 79236)).

(c) Applicability

This AD applies to all BAE Systems (Operations) Limited Model BAe 146-100A, -200A, and -300A airplanes and Model Avro 146-RJ70A, 146-RJ85A, and 146-RJ100A airplanes, certificated in any category.

(d) Subject

Air Transport Association (ATA) of America Code 32, Landing gear.

(e) Unsafe Condition

This AD was prompted by reports of cracking on the shoulders of a main landing gear (MLG) side stay outer link. The FAA is issuing this AD to address cracking of the MLG side stay outer link. The unsafe condition, if not addressed, could lead to failure of the MLG side stay outer link and MLG collapse, which could result in a runway departure and the engine or wing contacting the ground. The engine or wing contacting the ground could result in damage to the airplane, an increased risk of fire, the airplane flipping, and injury to occupants.

(f) Compliance

Comply with this AD within the compliance times specified, unless already done.

(g) Requirements

Except as specified in paragraphs (h) and (i) of this AD: Comply with all required actions and compliance times specified in, and in accordance with, United Kingdom (U.K.) Civil Aviation Authority (CAA) (U.K. CAA) AD G-2023-0004R1, dated November 16, 2023 (U.K. CAA AD G-2023-0004R1).

(h) Exceptions to U.K. CAA AD G-2023-0004R1

(1) Where U.K. CAA AD G-2023-0004R1 refers to July 7, 2023 (the effective date of U.K. CAA AD G-2023-0004 at original issue), this AD requires using the effective date of this AD.

(2) This AD does not adopt the paragraph that begins with “Required as indicated, unless accomplished previously in accordance with ASB.32-A189 . . .” and the Note that begins with “Prior accomplishment of inspection requirements . . .” specified in “Required Actions(s) and Compliance Time(s)” of U.K. CAA AD G-2023-0004R1.

(3) Where U.K. CAA AD G-2023-0004R1 refers to “ASB,” “the ASB,” or “ASB.32-A189 Revision 2,” this AD requires using BAE Systems (Operations) Limited Alert Service Bulletin ASB.32-A189, Revision 2, dated August 3, 2023.

(4) Where U.K. CAA AD G-2023-0004R1 specifies a detailed visual inspection “every 500 flights or 6 months (whichever occurs first),” for this AD, replace that text with “repeat at intervals not to exceed 500 flight cycles or 6 months, whichever occurs first.”

(5) Where U.K. CAA AD G-2023-0004R1 specifies a special detailed inspection “every 1200 flights or 12 months (whichever occurs first),” for this AD, replace that text with “repeat at intervals not to exceed 1,200 flight cycles or 12 months, whichever occurs first.”

(6) Where U.K. CAA AD G-2023-0004R1 specifies “in accordance with the dimensional limits provided in Appendix 2 then Safran Landing Systems must be contacted to provide further instructions,” this AD requires “before further flight, repair using a method approved by the Manager, International Validation Branch, FAA; or the U.K. CAA; or BAE Systems (Operations) Limited's U.K. CAA Design Organization Approval (DOA). If approved by the DOA, the approval must include the DOA-authorized signature.”

(7) Where U.K. CAA AD G-2023-0004R1 specifies the lubrication of the MLG sidestay outer link pivots “every 500 flights or 6 months (whichever occurs first),” for this AD, replace that text with “at intervals not to exceed 500 flight cycles or 6 months, whichever occurs first.”

(8) Where paragraph (5) of U.K. CAA AD G-2023-0004R1 specifies “as required by paragraphs (1) and (2) of this AD,” for this AD, replace that text with “as required by paragraphs (1), (2), and (3) of this AD.”

(9) Where the Note in paragraph (5) of U.K. CAA AD G-2023-0004R1 specifies “the part must have been inspected in accordance with paragraph (1) of this AD and a one-off dimensional check, airworthiness assessment and reporting performed in accordance with paragraph (2) of this AD,” for this AD, replace that text with “the part must have been inspected in accordance with paragraph (1) or (2) of this AD and a one-off dimensional check and airworthiness assessment performed in accordance with paragraph (3) of this AD.”

(10) This AD does not adopt the “Remarks” section of U.K. CAA AD G-2023-0004R1.

(i) No Reporting Requirement

Although U.K. CAA AD G-2023-0004R1 and BAE Systems (Operations) Limited Alert Service Bulletin ASB.32-A189, Revision 2, dated August 3, 2023, specify to submit certain information to the manufacturer, this AD does not include that requirement.

(j) Credit for Previous Actions

(1) This paragraph provides credit for actions required by paragraph (1) of U.K. CAA AD G-2023-0004R1, if those actions were performed before the effective date of this AD using BAE Systems (Operations) Limited Alert Service Bulletin ASB.32-A189, dated September 16, 2022, which was incorporated by reference in AD 2022-25-18, Amendment 39-22274 (87 FR 75915, December 12, 2022; corrected December 27, 2022 (87 FR 79236)); or BAE Systems (Operations) Limited Alert Service Bulletin ASB.32-A189, Revision 1, dated March 13, 2023, which is not incorporated by reference in this AD.

(2) This paragraph provides credit for actions required by paragraph (3) of U.K. CAA AD G-2023-0004R1, if those actions were performed before the effective date of this AD using BAE Systems (Operations) Limited Alert Service Bulletin ASB.32-A189, Revision 1, dated March 13, 2023, which is not incorporated by reference in this AD.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (l)(1) of this AD or email to: 9-AVS-AIR-730-AMOC@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the U.K. CAA; or BAE Systems (Operations) Limited's U.K. CAA DOA. If approved by the DOA, the approval must include the DOA-authorized signature.

(l) Additional Information

(1) For more information about this AD, contact Todd Thompson, Aviation Safety Engineer, FAA, 1600 Stewart Avenue, Suite 410, Westbury, NY 11590; telephone 206-231-3228; email todd.thompson@faa.gov.

(2) Service information identified in this AD that is not incorporated by reference is available at the address specified in paragraph (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) BAE Systems (Operations) Limited Alert Service Bulletin ASB.32-A189, Revision 2, dated August 3, 2023.

(ii) United Kingdom Civil Aviation Authority (U.K. CAA) AD G-2023-0004R1, dated November 16, 2023.

(3) For U.K. CAA AD G-2023-0004R1, contact Civil Aviation Authority, Aviation House, Beehive Ring Road, Crawley, West Sussex RH6 0YR, United Kingdom; telephone +44(0) 330 022 4401; email continued.airworthiness@caa.co.uk; website caa.co.uk.

(4) For BAE Systems (Operations) Limited service information, contact BAE Systems (Operations) Limited, Customer Information Department, Prestwick International Airport, Ayrshire, KA9 2RW, Scotland, United Kingdom; telephone +44 1292 675207; fax +44 1292 675704; email RApublications@baesystems.com; website regional-services.com.

(5) You may view this material at the FAA, Airworthiness Products Section, Operational Safety Branch, 2200 South 216th Street, Des Moines, WA. For information on the availability of this material at the FAA, call 206-231-3195.

(6) You may view this material at the National Archives and Records Administration (NARA). For information on the availability of this material at NARA, visit www.archives.gov/federal-register/cfr/ibr-locations or email fr.inspection@nara.gov.

Issued on March 19, 2024.
Victor Wicklund,
Deputy Director, Compliance & Airworthiness Division, Aircraft Certification Service.

[FR Doc. 2024-08108 Filed 4-16-24; 8:45 am]

BILLING CODE 4910-13-P